DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: School Climate Survey for the National Cross-Site Evaluation of Safe School/Healthy Student (SS/HS) Initiative Grants—NEW

The SS/HS Initiative is a collaborative grant program supported by three Federal departments—the U.S. Departments of Health and Human Services, Education, and Justice. The program is authorized under the Elementary and Secondary Education Act of 1965, as amended, and the Higher Education Act of 1965, Title IV, part A, subpart 2 (National Programs), Section 4121 (Federal Activities).

This initiative, instituted by Congress following the murderous assaults at Columbine High School in Colorado, is designed to provide Local Educational Agencies (LEAs), including school districts and multi-district regional consortia, with three years of funding to simultaneously improve school safety, student access to mental health services, the reduction of violence and substance abuse, school relationships with the larger community, and early childhood preparation for learning. Collectively, Congress expects these changes to be reflected in improved school climate.

Local Education Agencies (LEAs) serve as the primary applicants for SS/HS grants, but the LEAs are required to establish formal partnerships with the local mental health system, the local law enforcement agency, and the local juvenile justice agency. Other partners often include public and private social services agencies, businesses, civic organizations, the faith community, and private citizens. As a result of these partnerships, comprehensive plans are developed, implemented, evaluated, and sustained with the goals of promoting the healthy development of children and youth, fostering their resilience in the face of adversity, and preventing violence.

From FY-1999 through FY-2004, grants of $1 million to $3 million annually for three years were awarded to 190 LEAs, for a total of $916 million. Approximately 40 new SS/HS grants were awarded in FY-2005. These grants are providing support for rural, tribal, suburban, and urban communities that include diverse racial and ethnic groups across the country.

In compliance with the Government Performance and Results Act (GPRA) of 1993, grantees are required to collect and report data that measure the results of the programs implemented with this grant. Specifically, grantees are required to collect and report information on the following GPRA indicators:

1. The percentage of SS/HS grant sites that experience a decrease in the number of violent incidents at schools.

2. The percentage of SS/HS grant sites that experience a decrease in substance abuse.

3. The percentage of SS/HS grant sites that improve school attendance.

4. The percentage of SS/HS grant sites that increase mental health services to students and families.

In addition to GPRA measures, the Federal Evaluation Work Group of the Safe School/Healthy Students (SS/HS) Initiative national evaluation, comprised of Federal officials representing the U.S. Departments of Education, Health and Human Services, and Justice, determined that information on changes in school climate is also required to provide a direct basis of comparison for performance with subsequent cohorts of grantees. Although GPRA measures monitor changes in individual outcomes among students, GPRA measures have been found to provide an incomplete metric of performance in terms of observed changes in overall “school climate.”

The SS/HS National Evaluation Team proposes to adopt the staff version of the California Healthy Kids Survey for this purpose. This instrument contains 43 multiple choice questions that are used to obtain school staff perceptions of student behavior and attitudes, school programs and policies, and the overall school climate as they relate to student well-being and learning. It deals with such issues as truancy, safety, harassment, substance abuse, school connectedness and learning supports. The instrument, modified slightly to form the SS/HS School Climate Survey, will track changes in school climate in schools targeted for program services under the SS/HS Initiative. In the absence of the School Climate Survey, there would be no common, cross-site measure of performance across SS/HS initiative grantees. In practice, the School Climate Survey will be administered electronically among approximately 67,500 local educational system employees. These employees will be encouraged to log onto a Web site during each year that their school benefits from the grant to answer questions concerning their perception of student behavior and safety at the school.

The burden estimate for the annual survey is as follows:

Number of respondents | Responses per respondent | Burden response (hours) | Total annual burden (hours)
67,500 | 1 per year | 0.5 | 33,750

Send comments to Summer King, SAMHSA Reports Clearance Officer, Room 7-1044, One Choke Cherry Road, Rockville, MD 20857. Written comments should be received within 60 days of this notice.

Dated: August 1, 2006.
Anna Marsh,
Director, Office of Program Services.

[FR Doc. E6-12977 Filed 8-8-06; 8:45 am]

BILLING CODE 4162-20-P